DEPARTMENT OF DEFENSE

Office of the Secretary

Notice of Availability of the Environmental Assessment for the Updated Pentagon Reservation Master Plan

AGENCY: Defense Facilities Directorate, Washington Headquarters Services, DoD.

ACTION: Notice; Availability of the Environmental Assessment for the Updated Pentagon Reservation Master Plan.

SUMMARY: The Department of Defense (DoD), Washington Headquarters Services (WHS) announces that an Environmental Assessment (EA) for the Updated Pentagon Reservation Master Plan is available for public review and comment on or before 14 April 2005. The Master Plan involves the entire Pentagon Reservation to include all the main buildings and sub-buildings within the Pentagon site in Arlington, Virginia, exclusive of the Navy Annex. A separate EA will be distributed for the Navy Annex, also known as the Naval Annex, Arlington Annex and Federal Office Building No. 2 (FOB2).

The EA documents an evaluation of the environmental effects of the proposed updated Master Plan in accordance with the National Environmental Policy Act of 1969, as amended (NEPA, 42 U.S. Code 4321 to 4370b); Council of Environmental Quality (CEQ) implementing regulations (Title 40, Code of Federal Regulations, Parts 1500-1508); and DoD Instruction 4715.9, Environmental Planning and Analysis. The EA addresses the potential impacts and mitigation measures associated with the proposed action. Environmental consequences examined include potential impacts on socio-economic conditions, cultural and visual resources, transportation systems, physical and biological resources, utilities and infrastructure, and cumulative impacts.

The Pentagon Reservation Master Plan constitutes a policy framework for the long-term development of the Master Plan area—an area of approximately 220 acres within the larger Pentagon Reservation. The Master Plan primarily focuses on the following improvements within the Master Plan area: Implementing new security measures; improving vehicular circulation; consolidating existing surface parking into parking structures; and increasing landscaped areas.

The EA is available on the Internet at http://www.dtic.mil/ref/Safety/index.htm and in paper copy at the Arlington County Central Library, 1015 N. Quincy Street, Arlington, VA 22201. For those with access or escort, copies are also available in the Pentagon Library Reference Center on the Pentagon Concourse.

DATES: Public comments are invited and must be either e-mailed or postmarked on or before 11 May 2005.

ADDRESSES: To request a copy of the EA via e-mail or provide comments, contact Phyllis Kaplan at telephone: 703-614-4879, e-mail: Phyllis.Kaplan@whs.mil, or WHS Defense Facilities Directorate, ETSD/FEB, 1155 Defense Pentagon, Room 4A935, Washington, DC 20301-1155. Individuals also may download the EA from the website noted above.

FOR FURTHER INFORMATION CONTACT: For additional information on the EA, contact Phyllis Kaplan at telephone: 703-614-4879 or e-mail: Phyllis.Kaplan@whs.mil.

Dated: April 15, 2005.
Jeannette Owings-Ballard,
OSD Federal Register Liaison Officer, Department of Defense.

[FR Doc. 05-7934 Filed 4-19-05; 8:45 am]

BILLING CODE 5001-06-P